DEPARTMENT OF AGRICULTURE

Food and Nutrition Service

7 CFR Part 246

RIN 0584-AA80

Special Supplemental Nutrition Program for Women, Infants and Children (WIC): Food Delivery Systems; Delay of Implementation Date

AGENCY: Food and Nutrition Service, USDA.

ACTION: Final rule.

SUMMARY: This final rule delays from February 27, 2002 until October 1, 2002 the implementation date of the final rule entitled Special Supplemental Nutrition Program for Women, Infants and Children (WIC): Food Delivery Systems, which was published in the Federal Register on December 29, 2000, 65 FR 83248, and became effective on April 28, 2001. The rule strengthens vendor management in retail food delivery systems by establishing mandatory selection criteria, training requirements, criteria to be used to identify high-risk vendors, and monitoring requirements, including compliance investigations. The new implementation date of October 1, 2002 provides State agencies additional time to implement the rule, promotes more effective and efficient implementation of the new requirements, and corresponds with the beginning of the Federal fiscal year.

DATES: This rule is effective November 19, 2001. State agencies must fully implement the provisions of the WIC Food Delivery Systems final rule no later than October 1, 2002.

FOR FURTHER INFORMATION CONTACT: Debra R. Whitford, Supplemental Food Programs Division, Food and Nutrition Service, 3101 Park Center Drive, Room 522, Alexandria, Virginia 22302, (703) 305-2746.

SUPPLEMENTARY INFORMATION:

Background

On August 2, 2001, the Department published a proposed rule at 66 FR 40152 that would delay the implementation date of the WIC Food Delivery Systems final rule from February 27, 2002 to October 1, 2002. A total of nine comment letters were received during the comment period, which ended on September 4, 2001. All nine comment letters generally supported the delay of the implementation date. Whereas one commenter suggested further delaying the implementation date until September 30, 2003, another commenter indicated that it would not support delaying the implementation beyond the proposed date of October 1, 2002. We considered the proposed changes to its implementation date and concluded that the proposed date of October 1, 2002 is the most appropriate. Therefore, based on the comments received, and for the reasons cited in the proposed rule, the Department has decided to delay the implementation date of the WIC Food Delivery Systems final rule until October 1, 2002, as proposed. The Department has given all comments careful consideration in the development of this final rule and would like to thank all commenters who responded to the proposal.

For the reasons set forth in the above paragraph, the WIC Food Delivery Systems final rule, published December 29, 2000, at 65 FR 83248, is amended to extend the final date for implementation from February 27, 2002 to October 1, 2002.

Executive Order 12866

This final rule has been determined to be not significant for purposes of Executive Order 12866, and, therefore, has not been reviewed by the Office of Management and Budget (OMB).

Regulatory Flexibility Act

This rule has been reviewed with regard to the requirements of the Regulatory Flexibility Act (5 U.S.C. 601-612). The Acting Administrator of the Food and Nutrition Service (FNS) has certified that this rule will not have a significant economic impact on a substantial number of small entities. While procedures in this rulemaking will affect State and local agencies that administer the WIC Program, any economic effect will not be significant.

Unfunded Mandate Reform Act of 1995

Title II of the Unfunded Mandate Reform Act of 1995 (UMRA), Public Law 104-4, establishes requirements for Federal agencies to assess the effects of their regulatory actions on State, local, and tribal governments and the private sector. Under section 202 of the UMRA, FNS generally must prepare a written statement, including a cost-benefit analysis, for proposed and final rules with “Federal mandates” that may result in expenditures to State, local, or tribal governments, in the aggregate, or to the private sector, of $100 million or more in any one year. When such a statement is needed for a rule, section 205 of the UMRA generally requires FNS to identify and consider a reasonable number of regulatory alternatives and adopt the least costly, more cost-effective or least burdensome alternative that achieves the objectives of the rule. This rule contains no Federal mandates (under the regulatory provisions of Title II of the UMRA) for State, local, and tribal governments or the private sector of $100 million or more in any one year. Thus, this rule is not subject to the requirements of sections 202 and 205 of the UMRA.

Executive Order 12372

The WIC Program is listed in the Catalog of Federal Domestic Assistance under 10.557. For the reasons set forth in the final rule in 7 CFR part 3015, subpart V, and related notice (48 FR 29115), this program is included in the scope of Executive Order 12372 which requires intergovernmental consultation with State and local officials.

Paperwork Reduction Act of 1995

This final rule contains no new information collection requirements under the Paperwork Reduction Act of 1995 (44 U.S.C. 3507). The existing recordkeeping and reporting requirements, which were approved by OMB under control number 0584-0045, will not change as a result of this rule.

Executive Order 12988

This final rule has been reviewed under Executive Order 12988, Civil Justice Reform. This proposed rule is intended to have preemptive effect with respect to any State or local laws, regulations, or policies which conflict with its provisions or which would otherwise impede its full implementation. This rule is not intended to have retroactive effect unless so specified in the DATES section of the preamble. Prior to any judicial challenge to the application of the provisions of this final rule, all applicable administrative procedures must be exhausted.

List of Subjects in 7 CFR Part 246

Administrative practice and procedure, Civil rights, Food assistance programs, Food and Nutrition Service, Food donations, Grant programs—health, Grant programs—social programs, Indians, Infants and children, Maternal and child health, Nutrition, Nutrition education, Penalties, Reporting and recordkeeping requirements, Public assistance programs, WIC, Women.

Dated: October 12, 2001.
George A. Braley,
Acting Administrator, Food and Nutrition Service.

[FR Doc. 01-26194 Filed 10-17-01; 8:45 am]

BILLING CODE 3410-30-P